DEPARTMENT OF AGRICULTURE

Commodity Credit Corporation

Termination of the Upland Cotton User Marketing Certificate (Step 2) Program

AGENCY: Commodity Credit Corporation, USDA.

ACTION: Notice.

SUMMARY: This notice announces the termination of the Upland Cotton User Marketing Certificate Program, commonly referred to as the Step 2 Program.

DATES: The effective date of the action announced by this notice is August 1, 2006.

FOR FURTHER INFORMATION CONTACT: Timothy R. Murray, Cotton Program Manager, Warehouse and Inventory Division, Farm Service Agency, USDA, STOP 0553, 1400 Independence Avenue, SW., Washington, DC 20250-0553. Persons with disabilities who require alternative means for communication (Braille, large print, audiotape, etc.) should contact the USDA Target Center at (202) 720-2600 (voice and TDD). Telephone: (202) 720-6215. Electronic mail: Tim.Murray@wdc.usda.gov.

SUPPLEMENTARY INFORMATION: Section 1103 of the Deficit Reduction Act of 2005 (Pub. L. 109-171) repeals the authorizing language found in Section 136 of the Federal Agriculture Improvement and Reform Act of 1996 (7 U.S.C. 7236) in its entirety, and amends Section 1207 of the Farm Security and Rural Investment Act of 2002 (7 U.S.C. 7937) eliminating the Upland Cotton User Marketing Certificate Program. The Commodity Credit Corporation is notifying all interested parties.

The effective date of this repeal is August 1, 2006. Therefore, upland cotton used domestically, or exported under the terms and conditions of the Upland Cotton Domestic User/Exporter Agreement after July 31, 2006, will not be eligible for payment under the Upland Cotton User Marketing Certificate Program.

Signed at Washington, DC, on April 4, 2006.
Teresa C. Lasseter,
Executive Vice President, Commodity Credit Corporation.

[FR Doc. E6-5751 Filed 4-17-06; 8:45 am]

BILLING CODE 3410-05-P